DEPARTMENT OF JUSTICE

Notice of Public Comment Period for Proposed Environmental Settlement Agreement

Notice is hereby given that, for a period of 30 days, the United States will receive public comments on a proposed Settlement Agreement in In the Matter of Evans Industries, Inc. (“Debtor”)(Case No. 06-10370), which was lodged with the United States Bankruptcy Court for the Eastern District of Louisiana on September 28, 2007.

This proposed Settlement Agreement resolves the Distribution Trustee's objection to the United States Proof of Claim filed on behalf of the Environmental Protection Agency (“EPA Claim”) against the Debtor. The Proof of Claim asserts, inter alia, a claim, pursuant to the Comprehensive Environmental Response, Compensation and Liability Act (“CERCLA”), 42 U.S.C. 9601 et seq., that the Debtor arranged for the treatment or disposal of hazardous substances that it owned for possessed at the Malone Service Company Superfund Site (“Malone Site”) located in Texas City, Galveston County, Texas, and that the Debtor is liable for unreimbursed environmental response costs incurred by the United States and for response costs incurred in the future by the United States at the Malone Site (“EPA Claim”).

Under the Settlement Agreement, the EPA Claim shall be deemed allowed as a general unsecured claim of the kind specified in 11 U.S.C. 726(a)(2) in the amount of $1,238,763.80, and the EPA Claim shall be paid in the same manner and to the same extent as other general unsecured claims without discrimination, in accordance with the terms of the Debtor's Plan of Reorganization. Class 16 of the Plan provides for the treatment of general unsecured claims in accordance with Article XI (Distribution Trust).

Comments should be addressed to the Acting Assistant Attorney General, Environment and Natural Resources Division, and may be submitted to: P.O. Box 7611, U.S. Department of Justice, Washington, DC 20044-7611, or via e-mail to pubcomment-ees.enrd@usdoj.gov, and should refer to In the Matter of Evans Industries, Inc., D.J. Ref. 90-11-3-08926.

The Settlement Agreement may be examined at the Office of the United States Attorney, Eastern District of Louisiana, Hale Boggs Federal Building, 500 Poydras St., Room B-210, New Orleans, Louisiana 70130. During the public comment period the Evans Settlement Agreement may also be examined on the following Department of Justice Web site, http://www.usjoj.gov/enrd/Consent_Decrees.html. A copy of the Evans Settlement Agreement, may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $1.75 (25 cents per page reproduction cost) payable to the U.S. Treasury.

Thomas A. Mariani, Jr.,
Assistant Chief.

[FR Doc. 07-5130 Filed 10-16-07; 8:45 am]

BILLING CODE 4410-15-M